DEPARTMENT OF TRANSPORTATION

Federal Aviation Administration

RTCA Special Committee 186/EUROCAE Working Group 51: Automatic Dependent Surveillance—Broadcast (ADS-B)

AGENCY: Federal Aviation Administration (FAA), DOT.

ACTION: Notice of RTCA Special Committee 186/EUROCAE Working Group 51 meeting.

SUMMARY: The FAA is issuing this notice to advise the public of a meeting of RTCA Special Committee 186/EUROCAE Working Group 51: Automatic Dependent Surveillance—Broadcast (ADS-B).

DATES: The meeting will be held October 1-5, 2001 starting at 9 am.

ADDRESSES: The meeting will be held at EUROCONTROL, Brussels, Belgium.

FOR FURTHER INFORMATION CONTACT: (1) RTCA Secretariat, 1828 L Street, NW., Suite 805, Washington, DC, 20036; telephone (202) 833-9339; fax (202) 833-9434; web site http://www.rtca.org; (2) Mr. Bob Darby, bob.darby@eurocontrol.int.

SUPPLEMENTARY INFORMATION: Pursuant to section 10(a)(2) of the Federal Advisory Committee Act (P.L. 92-463, 5 U.S.C., Appendix 2), notice is hereby given for a Special Committee 186/EUROCAE Working Group 51 meeting. Specific sessions will meet as follows: (1) October 1: Joint SC-186/EUROCAE WG-51 Plenary Session: (2) October 2: Joint SC-186/WG-1 & 4 and WG-51/SG-3; (3) October 3: SC-186/WG-1 meets separately, Joint SC-186/WG-4 & WG-51/SG-3; (4) October 4: Joint SC-186/WG-4, WG-51/SG-3 and ICAO SCRSP/ASA SG; (5) October 5: ICAO SCRSP/ASA SG meets separately. The plenary agenda will include:

• October 1:

• Opening Plenary Session (Welcome and Introductory Remarks, Review/Approval of Meeting Agenda, Review/Approval of Meeting Minutes)

• SC-186 Activity Reports:

• WG-1, Operations and Implementation

• WG-2, Traffic Information Service—Broadcast (TIS-B)

• WG-3, 1090 MHz Minimum Operational Performance Standard (MOPS)

• WG-4, Application Technical Requirements

• WG-5, Universal Access Transceiver (UAT) MOPS

• WG-6, ADS-B Minimum Aviation System Performance Standard (MASPS)

• EUROCAE WG-51 Report (SG-1, SG-2 and SG-3)

• Closing Plenary Session (Review Action Items/Work Program, Date, Place and Time of Next Meeting, Adjourn)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on August 27, 2001.
Janice L. Peters,
FAA Special Assistant, RTCA Advisory Committee.

[FR Doc. 01-22248 Filed 9-4-01; 8:45 am]

BILLING CODE 4910-13-M